DEPARTMENT OF ENERGY

Federal Energy Regulatory Commission

Combined Notice of Filings #2

Take notice that the Commission received the following electric rate filings:

Docket Numbers: ER10-956-003.

Applicants: Vantage Wind Energy LLC.

Description: Supplement to December 20, 2010 Triennial Report.

Filed Date: 8/8/11.

Accession Number: 20110808-5169.

Comments Due: 5 p.m. ET 1/31/12.

Docket Numbers: ER12-789-000.

Applicants: Palmco Power MA, LLC.

Description: Palmco Power MA, LLC submits tariff filing per 35.12: Palmco Power MA FERC Electric Tariff to be effective 1/10/2012.

Filed Date: 1/10/12.

Accession Number: 20120110-5082.

Comments Due: 5 p.m. ET 1/31/12.

Docket Numbers: ER12-790-000.

Applicants: AEP Texas North Company.

Description: AEP Texas North Company submits tariff filing per 35.13(a)(2)(iii: 20120110 TNC-Higher Power Energy SUA to be effective 12/15/2011.

Filed Date: 1/10/12.

Accession Number: 20120110-5084.

Comments Due: 5 p.m. ET 1/31/12.

Docket Numbers: ER12-791-000.

Applicants: Palmco Power IL, LLC.

Description: Palmco Power IL, LLC submits tariff filing per 35.12: Palmco Power IL FERC Electric Tariff to be effective 1/10/2012.

Filed Date: 1/10/12.

Accession Number: 20120110-5086.

Comments Due: 5 p.m. ET 1/31/12.

Docket Numbers: ER12-792-000.

Applicants: PacifiCorp.

Description: PacifiCorp submits tariff filing per 35.13(a)(2)(iii: Nevada Power Revised Transmission Facilities Agreement to be effective 6/20/2011.

Filed Date: 1/10/12.

Accession Number: 20120110-5105.

Comments Due: 5 p.m. ET 1/31/12.

Take notice that the Commission received the following electric securities filings:

Docket Numbers: ES12-17-000.

Applicants: New York State Electric & Gas Corporation.

Description: Section 204 Application of New York State Electric & Gas Corporation for the issuance of short term securities.

Filed Date: 1/10/12.

Accession Number: 20120110-5095.

Comments Due: 5 p.m. ET 1/31/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2012.
Nathaniel J. Davis, Sr.,
Deputy Secretary.

[FR Doc. 2012-794 Filed 1-17-12; 8:45 am]

BILLING CODE 6717-01-P